DEPARTMENT OF HEALTH AND HUMAN SERVICES

National Institute of Health

National Institute of Child Health and Human Development (NICHD) in Collaboration With the Center for Medicare and Medicaid Services (CMS) Workshop To Develop a Research Agenda on Appropriate Settings for Rehabilitation; Notice of Meeting

Pursuant to a directive by CMS, notice is hereby given of a meeting of the Workshop To Develop a Research Agenda on Appropriate Settings for Rehabilitation in February 2005.

CMS issued a final rule on patients eligible for admission to inpatient rehabilitation. CMS committed to convene an expert panel to establish a research agenda towards obtaining data on patients in other diagnostic categories who might benefit from rehabilitation. The primary purpose of the meeting is to identify a research agenda for future follow-up.

Attendance by the public will be limited to space available. Please communicate with the individual listed as contact below to request special accommodations for persons with disabilities.

Additional information may be obtained either by accessing the CMS Web site, www.cms.gov, or by communicating with the contact whose name and telephone number is listed below.

Meeting Dates/Times: February 14, 2005, 8:30 a.m. to 5 p.m.; February 15, 2005, 8:30 a.m. to 5 p.m.

Address: NIH Campus, Building 31, Room 2A47 (second floor), 9000 Rockville Pike, Bethesda, Maryland 20892.

Contact: Michael Weinrich, M.D., Director, National Center for Medical Rehabilitation Research, National Institute of Child Health and Human Development, National Institutes of Health, 6100 Executive Boulevard, Room 2A03, MSC 7510, Rockville, MD 20892, Telephone: (301) 402-4201; Fax: (301) 402-0832, E-mail: weinricm@mail.nih.gov.

Dated: December 27, 2004.
Michael Weinrich,
Director, National Center for Medical Rehabilitation, Research, National Institute of Child Health and Human Development, National Institutes of Health.

[FR Doc. 04-28685 Filed 12-30-04; 8:45 am]

BILLING CODE 4140-01-P